DEPARTMENT OF COMMERCE

National Oceanic and Atmospheric Administration

[RTID 0648-XF529]

Fisheries of the South Atlantic and Gulf; Southeast Data, Assessment, and Review; Public Meeting

AGENCY: National Marine Fisheries Service, National Oceanic and Atmospheric Administration, Commerce.

ACTION: Notice of Review Workshop for the Greater Amberjack Count.

SUMMARY: The review of the Greater Amberjack Count will be conducted via an in-person review workshop. See SUPPLEMENTARY INFORMATION.

DATES: The meeting will be held from 8:30 a.m. EDT on March 24, 2026 until 12 p.m. EDT on March 27, 2026.

ADDRESSES: The Greater Amberjack Count Review Workshop will be held at the Gulf Council office at: 4107 West Spruce Street, Suite 200, Tampa, Florida 33607.

FOR FURTHER INFORMATION CONTACT: Emily Ott, SEDAR Coordinator; (843) 302-8434. Email: Emily.Ott@safmc.net.

SUPPLEMENTARY INFORMATION: The meeting will be broadcast live via GoToWebinar. Individuals may register by going to the Alabama/Mississippi Sea Grant Consortium website: https://masgc.org/greater-amberjack/review-workshop.

This Greater Amberjack Count population estimation study is separate from traditional data collection processes used to inform stock assessments. This study was designed with careful consideration of methods to support practical application by fisheries managers. Therefore, the data will be considered for incorporation into the stock assessment following review by the Center for Independent Experts (CIE). Next, the South Atlantic Fishery Management Council (SAFMC) and Gulf Council's Scientific and Statistical Committees (SSCs) will review the data and determine its appropriateness for consideration in upcoming region-specific greater amberjack stock assessments.

Visit the Mississippi Alabama Sea Grant Consortium website for more information on the project and draft report: https://masgc.org/greater-amberjack/review-workshop.

Selected reviewers will have expertise in the methods used to produce the population estimates. Following this review, the research team will have time to respond and make revisions. The full integration for consideration in management decisions will come later. Early findings should not be over-interpreted or considered final.

The Gulf, South Atlantic, and Caribbean Fishery Management Councils, in conjunction with NMFS and the Atlantic and Gulf States Marine Fisheries Commissions have implemented the Southeast Data, Assessment and Review (SEDAR) process, a multi-step method for determining the status of fish stocks in the Southeast Region. SEDAR is a participatory process for developing, evaluating, and reviewing information used for fisheries management advice. Review materials will be posted at https://masgc.org/greater-amberjack/review-workshop.

The items of discussion in the Review Workshop are as follows:

Participants will evaluate the technical merits of the Greater Amberjack Count report, as specified in the Terms of Reference for the workshop and determine if they are consistent with the best scientific information available.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

These meetings are physically accessible to people with disabilities. Requests for sign language interpretation or other auxiliary aids should be directed to the Council office (see ADDRESSES) at least 5 business days prior to each workshop.

Note: The times and sequence specified in this agenda are subject to change.

Authority: 16 U.S.C. 1801 et seq.

Dated: February 18, 2026.
Becky J. Curtis,
Acting Deputy Director, Office of Sustainable Fisheries, National Marine Fisheries Service.

[FR Doc. 2026-03444 Filed 2-20-26; 8:45 am]

BILLING CODE 3510-22-P